FEDERAL COMMUNICATIONS COMMISSION

[CG Docket No. 17-22; DA 18-13]

Termination of Dormant Proceedings

AGENCY: Federal Communications Commission.

ACTION: Notice of availability.

SUMMARY: In this document, the Consumer and Governmental Affairs Bureau announces the availability of the FCC order terminating, as dormant, certain docketed Commission proceedings.

DATES: The dockets are terminated as of February 5, 2018.

FOR FURTHER INFORMATION CONTACT: Micah Caldwell, Consumer and Governmental Affairs Bureau at (202) 418-1316 or by email at Micah.Caldwell@fcc.gov.

SUPPLEMENTARY INFORMATION: The Commission's Order, Termination of Certain Proceedings as Dormant, document DA 18-13, adopted on January 5, 2018, and released on January 5, 2018, is available in CG Docket No. 17-22. The full text of document DA 18-13, the spreadsheet associated with document DA 18-13 listing the proceedings terminated as dormant, and copies of any subsequently filed documents in this matter will be available for public inspection and copying via ECFS, and during regular business hours at the FCC Reference Information Center, Portals II, 445 12th Street SW, Room CY-A257, Washington, DC 20554. The full text of these documents and any subsequently filed documents in this matter may also be found by searching ECFS at: https://www.fcc.gov/ecfs/. To request materials in accessible formats for people with disabilities (Braille, large print, electronic files, audio format), send an email to fcc504@fcc.gov or call the Consumer and Governmental Affairs Bureau at (202) 418-0530 (voice) or (202) 418-0432 (TTY).

Gregory V. Haledjian,
Legal Advisor, Consumer and Governmental Affairs Bureau.

[FR Doc. 2018-01409 Filed 2-2-18; 8:45 am]

BILLING CODE 6712-01-P